Proclamation 10811 of September 13, 2024

National Historically Black Colleges and Universities Week, 2024

By the President of the United States of America

A Proclamation

For more than 180 years, Historically Black Colleges and Universities (HBCUs) have delivered a quality education to Black students across our Nation. Over 100 HBCUs serve as engines of economic opportunity and make America more prosperous and equitable. Although they make up less than 3 percent of all postsecondary institutions in the United States, HBCUs account for 8 percent of Black undergraduate enrollment and 13 percent of all bachelor's degrees earned by Black students. During National Historically Black Colleges and Universities Week, we celebrate the incredible legacy of these institutions, we honor the quality education, economic mobility, and opportunity they bring to so many students—particularly students from low-income backgrounds and those who are the first in their families to go to college—and we recommit to supporting and investing in their success.

HBCUs are centers of academic excellence, shaping the dreamers and doers who push our Nation forward. Within my Administration, I have seen firsthand just how an HBCU education shapes leaders and alumni—including Vice President Kamala Harris and the Administrator of the Environmental Protection Agency, Michael Regan. Eighty percent of our Nation's Black judges, 50 percent of all Black lawyers, and nearly 40 percent of Congressional Black Caucus members went to an HCBU. HBCUs produce 40 percent of all Black engineers and 70 percent of Black doctors. Some of our Nation's greatest visionaries, scholars, artists, athletes, and leaders of every sector have credited their success to their time at an HBCU. And HBCUs educate twice as many Pell Grant-eligible students as other institutions.

I have always supported our Nation's HBCUs, which tap into the full talent and diversity of our country. HBCUs are incredible institutions, but they unfairly face historic funding gaps and do not have the same endowments as other universities. My Administration has delivered record investments in HBCUs—totaling more than $16 billion. That funding has helped support students, student-veterans, and staff; improve campus infrastructure; expand Science, Technology, Engineering, and Math (STEM) research programs; and so much more. My Administration also secured first-time funding for the Augustus F. Hawkins Centers of Excellence Grant Program, providing more than $23 million in grants to HBCUs and Minority Serving Institutions to prepare our next generation of teachers and increase the diversity of the profession.

Additionally, I re-established the White House Initiative on Advancing Educational Equity, Excellence, and Economic Opportunity through HBCUs to ensure they have greater access to Federal funding opportunities. Furthermore, as Americans, we have to ensure that hate and hate-fueled violence are given no safe harbor in this country. When more than one-third of our country's HBCUs were targeted by dozens of bomb threats in 2022, my Administration worked to quickly expand the accessibility of a broad spectrum of Federal security services, resources, and expertise to support them. We also deployed over $2.4 million in Project School Emergency Response to Violence grants that have helped restore safe learning environments and investments in mental health and well-being for students. I strongly condemn any threats made by domestic extremists on HBCUs, and I will continue to do everything I can to protect all Americans from the threat of violence.

My Administration is also working to make sure college is more affordable for every American. We secured a $900 increase to the maximum Pell Grant award—the largest increase in over a decade—putting funding directly in students' hands. And we are working on relieving the crushing burden of student loan debt. To date, nearly 5 million Americans have received student loan debt relief, totaling almost $170 billion through various actions taken by my Administration. We also fixed the Public Service Loan Forgiveness program (PSLF) so that public servants get the relief they are entitled to under the law. My Administration has already provided relief to 947,000 borrowers through PSLF. Before I took office, only 7,000 public servants had received debt relief through this program. And earlier this year, I announced new plans that would provide debt relief for more than 30 million Americans when combined with everything my Administration has done so far.

This year, as I delivered the commencement address at Morehouse College, I felt honored to stand alongside these incredible students, whose legacies will surely lift our Nation up. These students, like so many others before them, launched their boundless futures at an HBCU. During National Historically Black Colleges and Universities Week, may we celebrate these critical institutions for all the doors of opportunity they open. May we honor their dedication to seeing their students thrive. And may we recommit to supporting HBCUs, which continue to prove that the American Dream is big enough for everyone to succeed.

NOW, THEREFORE, I, JOSEPH R. BIDEN JR., President of the United States of America, by virtue of the authority vested in me by the Constitution and the laws of the United States, do hereby proclaim September 15 through September 21, 2024, as National Historically Black Colleges and Universities Week. I call upon educators, students, public officials, professional organizations, corporations, and all Americans to observe this week with appropriate programs, ceremonies, and activities that acknowledge the countless contributions these institutions and their alumni have made to our country.

IN WITNESS WHEREOF, I have hereunto set my hand this thirteenth day of September, in the year of our Lord two thousand twenty-four, and of the Independence of the United States of America the two hundred and forty-ninth.

[FR Doc. 2024-21447

Filed 9-17-24; 8:45 am]

Billing code 3395-F4-P